ENVIRONMENTAL PROTECTION AGENCY

[FRL-6976-2]

Meeting of the Local Government Advisory Committee and the Small Community Advisory Subcommittee

AGENCY: Environmental Protection Agency (EPA).

ACTION: Notice.

SUMMARY: The Local Government Advisory Committee (LGAC) and its Small Community Advisory Subcommittee (SCAS) will meet jointly on June 7-8, 2001, in Washington, D.C. The Committee will hear remarks from the EPA Administrator, Governor Christine Todd Whitman, and the Associate Administrator for the Office of Congressional and Intergovernmental Relations, Edward D. Krenik, on Thursday, June 7th. The LGAC Subcommittees will provide updates on activities since the last Committee meeting. Other agenda topics will include Federalism and Environmental Management Systems. The Committee also will discuss proposed operating principles and revisions to its bylaws resulting from the merger of the SCAS with the LGAC.

The Issues Subcommittee will discuss water infrastructure funding, land use credits under State Implementation plans, and sustainability. The Process Subcommittee will discuss the Agency's draft Public Involvement Policy and accountability measures for Federalism implementation.

The Small Community Advisory Subcommittee will meet in a separate session on Wednesday, June 6th from 9 a.m.-5 p.m. The Subcommittee will update activities since its meeting in Seattle, Washington, on March 1-2, 2001. Topics will include Small Community Funding, a recommendation for Small Community Advocate, Federalism, TMDL Implementation, Sustainability, and Enforcement Flexibility.

The SCAS will hear comments from the public from 1:30-1:45 p.m. at its separate meeting June 6th. The LGAC and SCAS will hear comments from the public between 12:30-12:45 p.m. at their joint session on June 7. Each individual or organization wishing to address the combined Committee or Subcommittee meetings will be allowed a minimum of three minutes. Please contact the Designated Federal Officers (DFO) at the numbers listed below to schedule agenda time. Time will be allotted on a first come, first served basis.

These are open meetings and all interested persons are invited to attend. Meeting minutes will be available after the meeting and can be obtained by written request from the DFO. Members of the public are requested to call the DFO at the number listed below if planning to attend so that arrangements can be made to comfortably accommodate attendees as much as possible. Seating will be on a first come, first served basis.

DATES: The Small Community Advisory Subcommittee meeting is scheduled from 9:00 a.m. to 5:00 p.m. on Wednesday, June 6th. The Local Government Advisory Committee and Small Community Advisory Subcommittee joint meeting will begin at 9:00 a.m. on Thursday, June 7th and conclude at 4:00 p.m. on June 8th.

ADDRESSES: The meetings will be held in Washington, D.C. at the EPA's Headquarters, located at 1200 Pennsylvania Avenue, NW—the Ariel Rios North Building. The SCAS meeting on Wednesday will be held in conference room 3530. The joint LGAC/SCAS meeting on Thursday and Friday will be held in the Green Room on the 3rd floor.

Additional information can be obtained by writing the DFOs at 1200 Pennsylvania Avenue, NW (1306A), Washington, DC 20460.

FOR FURTHER INFORMATION CONTACT: The DFO for the Local Government Advisory Committee (LGAC) is Denise Zabinski Ney (202) 564-3684 and the DFO for the Small Community Advisory Subcommittee (SCAS) is Anne Randolph (202) 564-3679.

Dated: May 1, 2001.
Denise Zabinski Ney,
Designated Federal Officer, Local Government Advisory Committee.
Dated: May 1, 2001.
Anne Randolph,
Designated Federal Officer, Small Community Advisory Subcommittee.

[FR Doc. 01-11832 Filed 5-9-01; 8:45 am]

BILLING CODE 6560-50-U